DEPARTMENT OF TRANSPORTATION

National Highway Traffic Safety Administration

[Docket No. NHTSA-2003-15681]

Notice of Receipt of Petition for Decision That Nonconforming 2003 Ferrari 360 Spider and Coupe Passenger Cars Are Eligible for Importation

AGENCY: National Highway Traffic Safety Administration, DOT.

ACTION: Notice of receipt of petition for decision that nonconforming 2003 Ferrari 360 Spider and Coupe passenger cars are eligible for importation.

SUMMARY: This document announces receipt by the National Highway Traffic Safety Administration (NHTSA) of a petition for a decision that 2003 Ferrari 360 Spider and Coupe passenger cars that were not originally manufactured to comply with all applicable Federal motor vehicle safety standards are eligible for importation into the United States because (1) They are substantially similar to vehicles that were originally manufactured for importation into and sale in the United States and that were certified by their manufacturer as complying with the safety standards, and (2) they are capable of being readily altered to conform to the standards.

DATES: The closing date for comments on the petition is September 2, 2003.

ADDRESSES: Comments should refer to the docket number and notice number, and be submitted to: Docket Management, Room PL-401, 400 Seventh St., SW., Washington, DC 20590. (Docket hours are from 9 a.m. to 5 p.m). Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

G&K Automotive Conversion, Inc. of Santa Ana, California (“G&K”) (Registered Importer 90-007) has petitioned NHTSA to decide whether 2003 Ferrari 360 Spider and Coupe passenger cars are eligible for importation into the United States. The vehicles which G&K believes are substantially similar are 2003 Ferrari 360 Spider and Coupe passenger cars that were manufactured for importation into, and sale in, the United States and certified by their manufacturer as conforming to all applicable Federal motor vehicle safety standards.

The petitioner claims that it carefully compared non-U.S. certified 2003 Ferrari 360 Spider and Coupe passenger cars to their U.S.-certified counterparts, and found the vehicles to be substantially similar with respect to compliance with most Federal motor vehicle safety standards.

G&K submitted information with its petition intended to demonstrate that non-U.S. certified 2003 Ferrari 360 Spider and Coupe passenger cars, as originally manufactured, conform to many Federal motor vehicle safety standards in the same manner as their U.S. certified counterparts, or are capable of being readily altered to conform to those standards.

Specifically, the petitioner claims that non-U.S. certified 2003 Ferrari 360 Spider and Coupe passenger cars are identical to their U.S. certified counterparts with respect to compliance with Standard Nos. 102 Transmission Shift Lever Sequence, 103 Defrosting and Defogging Systems, 104 Windshield Wiping and Washing Systems, 106 Brake Hoses, 109 New Pneumatic Tires, 113 Hood Latch Systems, 116 Brake Fluid, 124 Accelerator Control Systems, 135 Passenger Car Brake Systems, 202 Head Restraints, 204 Steering Control Rearward Displacement, 205 Glazing Materials, 206 Door Locks and Door Retention Components, 207 Seating Systems, 212 Windshield Retention, 216 Roof Crush Resistance, 219 Windshield Zone Intrusion, and 302 Flammability of Interior Materials.

Petitioner also contends that the vehicles are capable of being readily altered to meet the following standards, in the manner indicated:

Standard No. 101 Controls and Displays: (a) Substitution of the word “Brake” for the ECE warning symbol as markings for the brake failure indicator lamp; (b) modification of the speedometer to read in miles per hour. The petitioner states that the instrument cluster will be modified by installing U.S.-version software information which will result in the seat belt warning symbol and other warning emblems reading appropriately in English.

Standard No. 108 Lamps, Reflective Devices and Associated Equipment: (a) Installation of U.S.-model front and rear sidemarker assemblies; (b) modification of the tail lamp assembly wiring (by welding the circuit in the tail lamp assembly) so that the tail lamps will operate in the same manner as those on the vehicle's U.S.-certified counterpart.

Standard No. 110 Tire Selection and Rims: Installation of a tire information placard.

Standard No. 111 Rearview Mirror: Inscription of the required warning statement on the face of the passenger side rearview mirror.

Standard No. 114 Theft Protection: Downloading of U.S.-version software information so that the vehicle complies with the standard.

Standard No. 118 Power Window Systems: Inspection of all vehicles and installation, on vehicles that are not already so equipped, of a relay in the power window control circuit so that the window transport mechanism is inoperative when the ignition switch is in the “off” position.

Standard No. 201 Occupant Protection in Interior Impact: Inspection of all vehicles and installation, on vehicles that are not already so equipped, of trim components that are necessary to comply with the upper interior impact requirements of the standard.

Standard No. 208 Occupant Crash Protection: Inspection of all vehicles and replacement of the driver's and passenger's air bags, knee bolsters, air bag control units, and seat belts if they are not identical to the U.S.-model components. The petitioner states that the vehicles are equipped with Type 2 combination lap and shoulder belts which are identical to those installed on the U.S. certified counterpart vehicle. According to the petitioner, these seat belts are automatic, self-tensioning, and capable of being released by means of a single red push button.

Standard No. 209 Seat Belt Assemblies: Inspection of all vehicles and replacement of the seat belt assemblies with U.S.-model components on vehicles that are not already so equipped.

Standard No. 210 Seat Belt Assembly Anchorages: Inspection of all vehicles and replacement of the seat belt assembly anchorages and components with U.S.-model tether anchorage components on vehicles that are not already so equipped.

Standard No. 214 Side Impact Protection: Inspection of all vehicles and installation of U.S.-model doors on vehicles that are not equipped with factory installed door beams.

Standard No. 225 Child Restraint Anchorage Systems: Installation of U.S.-model tether anchorages in Coupe.

Standard No. 301 Fuel System Integrity: Replacement of the charcoal canister, air pump, fuel filler neck, and rollover valve with U.S.-model components, providing a sufficient connection between the fuel tank and the U.S.-model fuel filler neck.

Standard No. 401 Interior Trunk Release: Modification of the hood latch by installing an extra cable so that the trunk can be released from the inside. The petition states that in order to meet the requirement of the standard that became effective on September 2002, an actuator will be installed.

Petitioner states that the front and rear bumper on the non-U.S.certified 2003 Ferrari 360 Spider and Coupe must be reinforced to meet the requirements of the Bumper Standard found in 49 CFR part 581. Petitioner claims that these reinforcements will achieve compliance with the standard based on testing submitted to the agency in conjunction with a previous petition.

The petitioner also states that all vehicles will be inspected prior to importation to ensure that all required anti-theft devices identical to those found on the U.S. certified counterpart vehicles are installed. Any modifications necessary to achieve compliance with the Theft Prevention Standard in 49 CFR part 541 will be made at that time.

In addition, the petitioner states that a vehicle identification number (VIN) plate must be affixed to the vehicles so that it is readable from outside the driver's windshield pillar, and a reference and certification label must be affixed to the edge of the driver's side door or to the latch post nearest the driver to meet the requirements of 49 CFR part 565.

Lastly, the petitioner states that a certification label will be affixed to the driver's side doorjamb to meet the requirements of the vehicle certification regulations in 49 CFR part 567.

Interested persons are invited to submit comments on the petition described above. Comments should refer to the docket number and be submitted to: Docket Management, Room PL-401, 400 Seventh St. SW, Washington, DC 20590. Docket hours are from 9 a.m. to 5 p.m. It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: July 14, 2003.
Kenneth N. Weinstein,
Associate Administrator for Enforcement.

[FR Doc. 03-18606 Filed 7-31-03; 8:45 am]

BILLING CODE 4910-59-P